DEPARTMENT OF JUSTICE

Notice of Lodging of Proposed Consent Decree Under the Comprehensive Environmental Response, Compensation and Liability Act and The Clean Water Act

On March 22, 2018, the Department of Justice lodged a proposed Consent Decree with the United States District Court for the Western District of Louisiana in the lawsuit entitled United States, Louisiana Department of Environmental Quality, and Louisiana Department of Wildlife and Fisheries, for the State of Louisiana v. CITGO Petroleum Corporation, Occidental Chemical Corporation, OXY USA Inc., and PPG Industries, Inc., Civil Action No. 2:18-cv-00402.

The Consent Decree resolves Plaintiffs' claims, as the trustees of natural resources, for injuries to natural resources in connection with the discharge of hazardous substances into Bayou d'Inde in the Calcasieu Estuary located in Calcasieu Parish, Louisiana. Specifically, the United States, on behalf of the National Oceanic and Atmospheric Administration and the U.S. Department of Interior, as federal trustees for natural resources injured by Settlors' disposals of hazardous substances, seek to recover natural resource damages pursuant to Section 107(a) of the Comprehensive Environmental Response, Compensation, and Liability Act (“CERCLA”), 42 U.S.C. 9607(a), and Section 311(f) of the Federal Water Pollution Control Act (“CWA”), 33 U.S.C. 1321(f). The Louisiana Department of Environmental Quality (“LDEQ”) and the Louisiana Department of Wildlife and Fisheries (“LDWF”), for the State of Louisiana, join in this action and also seek to resolve claims under the Louisiana Environmental Quality Act, La. R.S. § 30:2025. The proposed Consent Decree resolves these claims. Under the proposed Consent Decree, Settling Defendants CITGO Petroleum Corporation, Occidental Chemical Corporation, OXY USA Inc., and PPG Industries, Inc. are resolving their liability for natural resource damages alleged in the Complaint and agree to pay jointly the total sum of $11 million from which $3,045,046 will reimburse the federal and state trustees for past assessment costs ($2,981,841.85 for federal trustees and $63,204 for state trustees) and $7,954,954.15 will be deposited into the Bayou d'Inde Area of Concern Site Restoration Account within the NRDAR Fund managed by the United States Department of Interior for use by the trustees to pay for future natural resource restoration actions selected by the trustees. In consideration for the payments to be made by the Settling Defendants, and subject to certain reservations of rights, the United States, LDEQ and LDWF covenant not to sue or take any civil judicial or administrative action against the Settling Defendants to recover for the natural resource damages as defined in the Consent Decree.

The publication of this notice opens a period for public comment on the Consent Decree. Comments should be addressed to the Assistant Attorney General, Environment and Natural Resources Division, and should refer to United States, Louisiana Department of Environmental Quality, and Louisiana Department of Wildlife and Fisheries, for the State of Louisiana v. CITGO Petroleum Corporation, Occidental Chemical Corporation, OXY USA Inc., and PPG Industries, Inc., D.J. Ref. No. 90-11-2-1284/3. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $9.75 (25 cents per page reproduction cost) payable to the United States Treasury.

Thomas P. Carroll,
Assistant Section Chief, Environmental Enforcement Section, Environment and Natural Resources Division.

[FR Doc. 2018-06360 Filed 3-28-18; 8:45 am]

BILLING CODE 4410-15-P